DEPARTMENT OF TRANSPORTATION

Federal Aviation Administration

14 CFR Part 39

[Docket No. FAA-2015-0678; Directorate Identifier 2013-NM-207-AD; Amendment 39-18367; AD 2016-01-08]

RIN 2120-AA64

Airworthiness Directives; Airbus Airplanes

AGENCY: Federal Aviation Administration (FAA), Department of Transportation (DOT).

ACTION: Final rule.

SUMMARY: We are superseding Airworthiness Directive (AD) 2013-13-04, for certain Airbus Model A318, A319, A320, and A321 series airplanes. AD 2013-13-04 required installing a power interruption protection circuit for the landing gear control interface unit (LGCIU). This new AD requires a new modification of any previously modified LGCIU. This new AD also requires revising the maintenance or inspection program to reduce a certain functional check interval. This new AD also adds airplanes to the applicability. This AD was prompted by a determination that additional work is necessary to adequately address the identified unsafe condition. We are issuing this AD to prevent untimely unlocking and/or retraction of the nose landing gear (NLG), which, while on the ground, could result in injury to ground personnel and damage to the airplane.

DATES: This AD becomes effective February 17, 2016.

The Director of the Federal Register approved the incorporation by reference of a certain publication listed in this AD as of February 17, 2016.

The Director of the Federal Register approved the incorporation by reference of certain other publications listed in this AD as of August 14, 2013 (78 FR 41286, July 10, 2013) .

ADDRESSES: You may examine the AD docket on the Internet at http://www.regulations.gov/#!docketDetail;D=FAA-2015-0678; or in person at the Docket Management Facility, U.S. Department of Transportation, Docket Operations, M-30, West Building Ground Floor, Room W12-140, 1200 New Jersey Avenue SE., Washington, DC.

For service information identified in this final rule, contact Airbus, Airworthiness Office—EAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2015-0678

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Discussion

We issued a notice of proposed rulemaking (NPRM) to amend 14 CFR part 39 to supersede AD 2013-13-04, Amendment 39-17492 (78 FR 41286, July 10, 2013). AD 2013-13-04 applied to certain Airbus Model A318, A319, A320, and A321 series airplanes. The NPRM published in the Federal Register on March 31, 2015 (80 FR 17007).

The European Aviation Safety Agency (EASA), which is the Technical Agent for the Member States of the European Union, has issued EASA Airworthiness Directive 2013-0202, dated September 5, 2013 (referred to after this as the Mandatory Continuing Airworthiness Information, or “the MCAI”), to correct an unsafe condition for Airbus Model A318-111, -112, -121, and -122 airplanes; Model A319-111, -112, -113, -114, -115, -131, -132, and -133 airplanes; Model A320-211, -212, -214, -231, -232, and -233 airplanes; and Model A321-111, -112, -131, -211, -212, -213, -231, and -232 airplanes. The MCAI states:

After a push back from the gate, an A320 aeroplane was preparing to initiate taxi, when an uncommanded nose landing gear (NLG) retraction occurred, causing the nose of the aeroplane to hit the ground. Investigations revealed that the retraction was caused by a combination of a power interruption to Landing Gear Control and Interface Units (LGCIU) and an internal hydraulic leak through the landing gear (LG) selector valve 40GA.

Deeper investigations have revealed that LGCIU power interruption appears during engine start at each flight. Even though no incident has been reported in service, it has been determined that a non-compliance to the safety objective exists when combined with a dormant single failure of the selector valve seal leaking.

This condition, if not corrected, could lead to further incidents of untimely unlocking and/or retraction of the NLG which, while on the ground, could result in injury to ground personnel and damage to the aeroplane.

To address the possible hydraulic leak of the LG selector valve, EASA issued AD 2007-0065 [http://ad.easa.europa.eu/blob/easa_ad_2007_0065.pdf/AD_2007-0065] currently at Revision 2.

To address the risk of untimely unlocking and/or retraction of the NLG, EASA issued AD 2011-0202 [http://ad.easa.europa.eu/blob/easa_ad_2011_0202.pdf/AD_2011-0202] to require installation of a power interruption protection circuit to the LGCIU and accomplishment of associated modifications.

Since that [EASA] AD was issued, it has been discovered that additional work is necessary to adequately correct this unsafe condition and consequently, Airbus issued Service Bulletin (SB) A320-32-1346 to Revision 05. An update of the maintenance programme is required as well, following the required modification.

For the reasons described above, this [EASA] AD retains the requirements of EASA AD 2011-0202, which is superseded, and requires certain additional actions, as defined in the revised Airbus SB, as applicable to aeroplane model, and an update of the approved maintenance programme.

The additional actions include a new modification of any previously modified LGCIU, and reducing a certain functional check interval. This AD also adds airplanes on which Airbus modification 37866 has been embodied in production to the applicability. You may examine the MCAI in the AD docket on the Internet at http://www.regulations.gov/#!documentDetail;D=FAA-2015-0678-0002.

Comments

We gave the public the opportunity to participate in developing this AD. The following presents the comments received on the NPRM (80 FR 17007, March 31, 2015) and the FAA's response to the comment.

Request To Include Revised Service Information

United Airlines (UAL) stated that paragraphs (i) and (j) of the proposed AD (80 FR 17007, March 31, 2015) would be required to be done in accordance with the instructions of Airbus Service Bulletin A320-32-1346, Revision 05, dated January 13, 2012. UAL asked that we allow use of the latest revision available, Airbus Service Bulletin A320-32-1346, Revision 07, dated February 10, 2015, for accomplishing the modification.

We agree with the commenter's request. Airbus has issued Service Bulletin A320-32-1346, Revision 06, dated January 12, 2015, and Airbus Service Bulletin A320-32-1346, Revision 07, dated February 10, 2015. These revisions state that no additional work is necessary on airplanes changed in accordance with Airbus Service Bulletin A320-32-1346, Revision 05, dated January 13, 2012, which was specified as the appropriate source of service information in the NPRM (80 FR 17007, March 31, 2015).

We have changed paragraphs (i) and (j) of this AD to specify accomplishing the modification in accordance with Airbus Service Bulletin A320-32-1346, Revision 07, dated February 10, 2015. We have also added a new paragraph (l)(2) to this AD (paragraph (l) of the proposed AD (80 FR 17007, March 31, 2015) has been changed to paragraph (l)(1) in this AD) to give credit for actions done before the effective date of this AD using Airbus Service Bulletin A320-32-1346, Revision 05, dated January 13, 2012; or Airbus Service Bulletin A320-32-1346, Revision 06, dated January 12, 2015.

Request To Include Terminating Action

UAL stated that the NPRM (80 FR 17007, March 31, 2015) does not include a terminating action. UAL asked that we create a new paragraph detailing all actions that will be terminated by accomplishing the modification of the LGCIU, as specified in Airbus Service Bulletin A320-32-1346, Revision 07, dated February 10, 2015.

We do not agree with the request. Paragraph (i) of this AD specifies that the modification terminates the actions required by paragraphs (g) and (h) of this AD. Therefore, no change to this AD is necessary in this regard.

Conclusion

We reviewed the relevant data and determined that air safety and the public interest require adopting this AD with the changes described previously and minor editorial changes. We have determined that these minor changes:

• Are consistent with the intent that was proposed in the NPRM (80 FR 17007, March 31, 2015) for correcting the unsafe condition; and

• Do not add any additional burden upon the public than was already proposed in the NPRM (80 FR 17007, March 31, 2015).

We also determined that these changes will not increase the economic burden on any operator or increase the scope of this AD.

Related Service Information Under 1 CFR Part 51

Airbus has issued Service Bulletin A320-32-1346, Revision 07, dated February 10, 2015, including Appendices 01 and 02, dated February 10, 2015; and Task 32.30.00.17, “Functional Check of LGCIU Power Supply Relays,” of Section C-32 of Section C, Systems and Powerplant, of the Airbus A318/A319/A320/A321 Maintenance Review Board Report, Revision 18, dated March 2013. The service information describes procedures for installing a power interruption protection circuit for the LGCIU, and for a new modification of any previously modified LGCIU. This service information is reasonably available because the interested parties have access to it through their normal course of business or by the means identified in the ADDRESSES section.

Costs of Compliance

We estimate that this AD affects 851 airplanes of U.S. registry.

The actions required by AD 2013-13-04, Amendment 39-17492 (78 FR 41286, July 10, 2013), take about 48 work-hours per product, at an average labor rate of $85 per work-hour. Required parts will cost about $8,220 per product. Based on these figures, the estimated cost of the actions that are required by AD 2013-13-04 is $12,300 per product.

We estimate that it takes about 46 work-hours per product to comply with the new modification in this AD. The average labor rate is $85 per work-hour. Required parts will cost about $9,650 per product. Based on these figures, we estimate the cost of the new modification on U.S. operators to be $11,539,560, or $13,560 per product.

We estimate that it takes about 1 work-hour per product to revise the maintenance or inspection program in this AD. The average labor rate is $85 per work-hour. Based on these figures, we estimate the cost of revising the maintenance program on U.S. operators to be $72,335, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2015-0678; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2013-13-04, Amendment 39-17492 (78 FR 41286, July 10, 2013), and adding the following new AD:

2016-01-08 Airbus: Amendment 39-18367. Docket No. FAA-2015-0678; Directorate Identifier 2013-NM-207-AD.

(a) Effective Date

This AD becomes effective February 17, 2016.

(b) Affected ADs

This AD replaces AD 2013-13-04, Amendment 39-17492 (78 FR 41286, July 10, 2013).

(c) Applicability

(1) This AD applies to Airbus Model A318-111, -112, -121, and -122 airplanes; Model A319-111, -112, -113, -114, -115, -131, -132, and -133 airplanes; Model A320-211, -212, -214, -231, -232, and -233 airplanes; and Model A321-111, -112, -131, -211, -212, -213, -231, and -232 airplanes; certificated in any category; all manufacturer serial numbers.

(d) Subject

Air Transport Association (ATA) of America Code 32, Landing Gear.

(e) Reason

This AD was prompted by a determination that additional work is necessary to adequately address the identified unsafe condition. We are issuing this AD to prevent untimely unlocking and/or retraction of the nose landing gear (NLG), which, while on the ground, could result in injury to ground personnel and damage to the airplane.

(f) Compliance

Comply with this AD within the compliance times specified, unless already done.

(g) Retained Modification With No Changes

This paragraph restates the requirements of paragraph (g) of AD 2013-13-04, Amendment 39-17492 (78 FR 41286, July 10, 2013) with no changes. For all airplanes except airplanes on which Airbus modification 37866 has been embodied in production: At the applicable compliance time specified in paragraph (g)(1) or (g)(2) of this AD: Install a power interruption protection circuit for the landing gear control interface unit (LGCIU), in accordance with the Accomplishment Instructions of Airbus Service Bulletin A320-32-1346, Revision 04, including Appendices 01 and 02, dated April 22, 2011 (for Model A318, A319, A320, and A321 series airplanes other than the Model A319CJ (corporate jet) airplanes); or Airbus Service Bulletin A320-32-1349, Revision 03, including Appendix 1, dated October 5, 2011 (for Model A319CJ (corporate jet) airplanes).

(1) For airplanes that have embodied Airbus Modification 38947 specified in Airbus Service Bulletin A320-32-1348 during production or in service: Within 72 months after August 14, 2013 (the effective date of AD 2013-13-04, Amendment 39-17492 (78 FR 41286, July 10, 2013)).

(2) For all airplanes other than those identified in paragraph (g)(1) of this AD: Within 60 months after August 14, 2013 (the effective date of AD 2013-13-04, Amendment 39-17492 (78 FR 41286, July 10, 2013)).

(h) Retained Re-Identification of Identification Plates With No Changes

This paragraph restates the requirements of paragraph (h) of AD 2013-13-04, Amendment 39-17492 (78 FR 41286, July 10, 2013) with no changes. For airplanes on which the installation required by paragraph (g) of this AD has been done before August 14, 2013 (the effective date of AD 2013-13-04) using Airbus Service Bulletin A320-32-1346, dated December 4, 2008 (for Model A318, A319, A320, and A321 series airplanes other than Model A319CJ (corporate jet) airplanes): Within the applicable times specified in paragraphs (g)(1) and (g)(2) of this AD, re-identify the identification plates, in accordance with the Accomplishment Instructions of Airbus Service Bulletin A320-32-1346, Revision 04, including Appendices 01 and 02, dated April 22, 2011 (for Model A318, A319, A320, and A321 series airplanes other than Model A319CJ (corporate jet) airplanes).

(i) New Modification

For airplanes identified in paragraphs (i)(1), (i)(2), and (i)(3) of this AD except airplanes on which Airbus modification 37866 has been embodied in production: Modify the LGCIU at the applicable time specified in paragraph (i)(1), (i)(2), or (i)(3) of this AD, in accordance with the Accomplishment Instructions of Airbus Service Bulletin A320-32-1346, Revision 07, dated February 10, 2015, including Appendices 01 and 02, dated February 10, 2015; or Airbus Service Bulletin A320-32-1349, Revision 03, including Appendix 1, dated October 5, 2011 (for Model A319CJ (corporate jet) airplanes), which was incorporated by reference on August 14, 2013 (78 FR 41286, July 10, 2013). Accomplishing the modification in this paragraph terminates the actions required by paragraphs (g) and (h) of this AD.

(1) For airplanes on which any landing gear (LG) selector valve having part number (P/N) 114079019 is installed and that have embodied Airbus Modification 38947 specified in Airbus Service Bulletin A320-32-1348 during production or in service: Modify the LGCIU within 72 months after the effective date of this AD.

(2) For airplanes on which any LG selector valve 40GA having a part number listed in paragraphs (i)(2)(i) through (i)(2)(xii) of this AD, provided the valve has the marking “DI” or “DI-BE” recorded on its amendment plates: Modify the LGCIU within 72 months after the effective date of this AD.

(i) P/N 114079001.

(ii) P/N 114079005.

(iii) P/N 114079009.

(iv) P/N 114079013.

(v) P/N 114079001A.

(vi) P/N 114079005A.

(vii) P/N 114079009A.

(viii) P/N 114079015.

(ix) P/N 114079001AB.

(x) P/N 114079005AB.

(xi) P/N 114079009AB.

(xii) P/N 114079017.

(3) For all airplanes other than those identified in paragraphs (i)(1) and (i)(2) of this AD: Modify the LGCIU within 60 months after the effective date of this AD.

(j) New Modification for Airplanes Previously Modified

For airplanes that have been modified as of the effective date of this AD as specified in the applicable service information identified in paragraph (j)(1), (j)(2), (j)(3), or (j)(4) of this AD, except airplanes on which Airbus modification 37866 has been embodied in production: Within 72 months after the effective date of this AD, do the additional modification of the LGCIU, in accordance with the Accomplishment Instructions of Airbus Service Bulletin A320-32-1346, Revision 07, dated February 10, 2015, including Appendices 01 and 02, dated February 10, 2015.

(1) Airbus Service Bulletin A320-32-1346, Revision 01, dated October 27, 2009, which is not incorporated by reference in this AD.

(2) Airbus Service Bulletin A320-32-1346, Revision 02, dated November 4, 2009, which is not incorporated by reference in this AD.

(3) Airbus Service Bulletin A320-32-1346, Revision 03, dated January 7, 2010, which is not incorporated by reference in this AD.

(4) Airbus Service Bulletin A320-32-1346, including Appendices 01 and 02, Revision 04, dated April 22, 2011, which is incorporated by reference in AD 2013-13-04, Amendment 39-17492 (78 FR 41286, July 10, 2013).

(k) New Maintenance or Inspection Program Revision

Before further flight after accomplishing the actions specified in paragraph (i) or (j) of this AD or within 7 days after the effective date of this AD, whichever occurs later: Revise the maintenance or inspection program, as applicable, to incorporate Task 32.30.00.17, “Functional Check of LGCIU Power Supply Relays,” of Section C-32 of Section C, Systems and Powerplant, of the Airbus A318/A319/A320/A321 Maintenance Review Board Report, Revision 18, dated March 2013. The initial compliance time is within 4,000 flight hours after accomplishing the additional modification of the LGCIU.

(l) Credit for Previous Actions

(1) This paragraph provides credit for A319 Corporate Jet airplanes for the modification required by paragraph (g) of this AD if that modification was performed before the effective date of this AD using the following applicable service information. This service information is not incorporated by reference in this AD.

(i) Airbus Service Bulletin A320-32-1349, dated December 4, 2008;

(ii) Airbus Service Bulletin A320-32-1349, Revision 01, dated August 31, 2009;

(iii) Airbus Service Bulletin A320-32-1349, Revision 02, dated June 16, 2010.

(2) This paragraph provides credit for the modification required by paragraphs (i) and (j) of this AD, as applicable, if that modification was performed before the effective date of this AD using Airbus Service Bulletin A320-32-1346, Revision 05, dated January 13, 2012; or Airbus Service Bulletin A320-32-1346, Revision 06, dated January 12, 2015. This service information is not incorporated by reference in this AD.

(m) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov.

(i) Before using any approved AMOC, notify your appropriate principal inspector, or lacking a principal inspector, the manager of the local flight standards district office/certificate holding district office. The AMOC approval letter must specifically reference this AD.

(ii) AMOCs approved previously for AD 2013-13-04, Amendment 39-17492 (78 FR 41286, July 10, 2013) are approved as AMOCs for the corresponding provisions of this AD.

(2) Contacting the Manufacturer: As of the effective date of this AD, for any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(n) Related Information

(1) Refer to Mandatory Continuing Airworthiness Information (MCAI) EASA Airworthiness Directive 2013-0202, dated September 5, 2013, for related information. This MCAI may be found in the AD docket on the Internet at http://www.regulations.gov/#!documentDetail;D=FAA-2015-0678-0002.

(2) Service information identified in this AD that is not incorporated by reference in this AD is available at the addresses specified in paragraphs (o)(5) and (o)(6) of this AD.

(o) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on February 17, 2016.

(i) Airbus Service Bulletin A320-32-1346, Revision 07, dated February 10, 2015, including Appendices 01 and 02, dated February 10, 2015.

(ii) Task 32.30.00.17, “Functional Check of LGCIU Power Supply Relays,” of Section C-32 of Section C, Systems and Powerplant, of the Airbus A318/A319/A320/A321 Maintenance Review Board Report, Revision 18, dated March 2013.

(4) The following service information was approved for IBR on August 14, 2013 (78 FR 41286, July 10, 2013).

(i) Airbus Service Bulletin A320-32-1346, Revision 04, including Appendices 01 and 02, dated April 22, 2011.

(ii) Airbus Service Bulletin A320-32-1349, Revision 03, including Appendix 1, dated October 5, 2011.

(5) For service information identified in this AD, contact Airbus, Airworthiness Office—EAS, 1 Rond Point Maurice Bellonte, 31707 Blagnac Cedex, France; telephone +33 5 61 93 36 96; fax +33 5 61 93 44 51; email account.airworth-eas@airbus.com; Internet http://www.airbus.com.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on December 31, 2015.
Philip Forde,
Acting Manager, Transport Airplane Directorate, Aircraft Certification Service.

[FR Doc. 2016-00014 Filed 1-12-16; 8:45 am]

BILLING CODE 4910-13-P